DEPARTMENT OF ENERGY

Federal Energy Regulatory Commission

Combined Notice of Filings

Take notice that the Commission has received the following Natural Gas Pipeline Rate and Refund Report filings:

Filings Instituting Proceedings

Docket Numbers: RP18-349-000.

Applicants: East Tennessee Natural Gas, LLC.

Description: § 4(d) Rate Filing: Duke K410135 Release for 2018-04-01 to be effective 4/1/2018.

Filed Date: 1/16/18.

Accession Number: 20180116-5073.

Comments Due: 5 p.m. ET 1/29/18.

Docket Numbers: RP18-350-000.

Applicants: East Tennessee Natural Gas, LLC.

Description: § 4(d) Rate Filing: Duke K410135 Release for 2018-11-01 to be effective 11/1/2018.

Filed Date: 1/16/18.

Accession Number: 20180116-5075.

Comments Due: 5 p.m. ET 1/29/18.

Docket Numbers: RP18-351-000.

Applicants: East Tennessee Natural Gas, LLC.

Description: § 4(d) Rate Filing: Duke K410135 Release for 2019-04-01 to be effective 4/1/2019.

Filed Date: 1/16/18.

Accession Number: 20180116-5076.

Comments Due: 5 p.m. ET 1/29/18.

Docket Numbers: RP18-352-000.

Applicants: East Tennessee Natural Gas, LLC.

Description: § 4(d) Rate Filing: Duke K410135 Release for 2019-11-01 to be effective 11/1/2019.

Filed Date: 1/16/18.

Accession Number: 20180116-5077.

Comments Due: 5 p.m. ET 1/29/18.

Docket Numbers: RP18-353-000.

Applicants: Northern Natural Gas Company.

Description: § 4(d) Rate Filing: 20180116 Rate Schedule TF and Miscellaneous Filing to be effective 2/16/2018.

Filed Date: 1/16/18.

Accession Number: 20180116-5191.

Comments Due: 5 p.m. ET 1/29/18.

Docket Numbers: RP18-354-000.

Applicants: Chesapeake Energy Marketing, L.L.C., Territory Resources LLC.

Description: Joint Petition of Chesapeake Energy Marketing, L.L.C., et. al. for Limited Waiver and Request for Expedited Action under RP18-354.

Filed Date: 1/16/18.

Accession Number: 20180116-5195.

Comments Due: 5 p.m. ET 1/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2018.
Nathaniel J. Davis, Sr.,
Deputy Secretary.

[FR Doc. 2018-01104 Filed 1-22-18; 8:45 am]

BILLING CODE 6717-01-P